DEPARTMENT OF TRANSPORTATION

Federal Motor Carrier Safety Administration

[Docket No. FMCSA-2008-0289]

Filing Requirements of 49 U.S.C. 14123; The Motor Carrier Financial and Operating Statistics Program (the Annual Form M Filing); Application for Exemption From Swift Transportation Corporation

AGENCY: Federal Motor Carrier Safety Administration (FMCSA), DOT.

ACTION: Notice of final disposition.

SUMMARY: The Federal Motor Carrier Safety Administration (FMCSA) published a Federal Register notice of an application by Swift Transportation Corporation (Swift Transportation) for an exemption from the requirement annually to report certain financial information (49 CFR 369.1). Swift Transportation stated that disclosing this information would cause competitive harm. The Agency received one comment to the public docket. The Agency has considered the comment and grants Swift Transportation's request for exemption.

DATES: This exemption is effective until December 31, 2011.

FOR FURTHER INFORMATION CONTACT: Rhonda Scott, Office of Information Technology, IT Operations Division, (202) 366-4134; Federal Motor Carrier Safety Administration, 1200 New Jersey Avenue, SE., Washington, DC 20590.

SUPPLEMENTARY INFORMATION:

Background

Although 49 U.S.C. 14123 requires certain motor carriers annually to file financial and safety reports with FMCSA, subsection (c) authorizes exemptions from the filing requirements or from public release of the information. Exemption requests must comply with 49 CFR 369.9, and the request must be published in the Federal Register.

Swift Transportation's Application for Exemption

On December 14, 2007, Swift Transportation applied for an exemption under 49 CFR 369.9 from disclosing confidential business information to the public. A privately held corporation, Swift Transportation argued that disclosure of this information would result in competitive harm.

Comments

FMCSA published a Federal Register notice announcing the application on November 6, 2008 (73 FR 66095). One comment was submitted to the docket. The commenter concurred with the request on the ground that the data is not being used and the requirement is no longer needed.

FMCSA Decision

FMCSA reviewed the comment and the documentation submitted by the applicant. The Agency determined that Swift Transportation is not a publicly held corporation and that it provided sufficient support for the claim of competitive harm, both of which are preconditions for an exemption under 49 CFR 369.9. The Agency therefore grants the exemption, which will be effective from March 31, 2008 through December 31, 2011 (§ 369.9(g)).

Issued on: March 18, 2009.
Rose A. McMurray,
Acting Deputy Administrator.

[FR Doc. E9-6460 Filed 3-30-09; 8:45 am]

BILLING CODE 4910-EX-P